NUCLEAR REGULATORY COMMISSION

[Docket No. 70-143; NRC-2010-0379]

Nuclear Fuel Services, Inc.; Environmental Assessment and Finding of No Significant Impact for Proposed Exemption From a Requirement To Measure the Uranium Element and Isotopic Content of Special Nuclear Material

AGENCY: Nuclear Regulatory Commission.

ACTION: Environmental Assessment and Finding of No Significant Impact.

FOR FURTHER INFORMATION CONTACT: Kevin M. Ramsey, Project Manager, Fuel Cycle Facilities Branch, Division of Fuel Cycle Safety and Safeguards, Office of Nuclear Material Safety and Safeguards, U.S. Nuclear Regulatory Commission, Mail Stop EBB-2C40M, Rockville, MD 20555-0001, Telephone (301) 492-3123, Fax (301) 492-3359, E-mail kevin.ramsey@nrc.gov.

SUPPLEMENTARY INFORMATION:

I. Introduction

The U.S. Nuclear Regulatory Commission's (NRC) staff is considering the issuance of a license amendment to Materials License SNM-124 to Nuclear Fuel Services, Inc. (NFS or the licensee) that would reflect a requested one-time exemption from a requirement to measure the uranium element and isotopic content of certain small amounts of strategic special nuclear material, as described further below. The NRC regulations in Title 10 of the Code of Federal Regulations (10 CFR) 74.59(d)(1) state that a licensee must establish and maintain a system of measurements to substantiate such contents. By letter dated December 31, 2009, NFS requested a temporary exemption from this requirement.

The NRC prepared an Environmental Assessment (EA) in support of this exemption request in accordance with the requirements of 10 CFR part 51. Based on the EA, the NRC concluded that a Finding of No Significant Impact (FONSI) is appropriate; therefore, an Environmental Impact Statement (EIS) will not be prepared.

II. Environmental Assessment

Background

The NFS facility in Erwin, Tennessee is authorized, under License SNM-124 to manufacture high-enriched nuclear reactor fuel. In addition, NFS is authorized to blend highly enriched uranium with natural uranium and manufacture low-enriched nuclear reactor fuel. The U.S. Department of Energy contracted with NFS to retain no more than 30, 2S type uranium hexafluoride (UF6) cylinders for future forensic analysis. These cylinders have been opened and processed leaving a small quantity of material (heel) in each cylinder. Because of the trace condition of heel material, it is difficult to perform destructive or nondestructive analyses to measure the uranium element and isotope content of the material remaining in these cylinders. It requires expensive equipment, which NFS does not possess, to sample and analyze UF6 gas. Therefore, NFS is requesting a one-time exemption to allow the use of assigned values for each cylinder based on the net weight of the heel, and concentration and enrichment factors. These assigned values will be used for inventory, receipt and shipment practices.

Review Scope

The purpose of this EA is to assess the environmental impacts of granting the requested exemption. This EA does not approve the request—a separate safety review determines whether to grant the requested exemption. This EA is limited to the proposed exemption and any cumulative impacts on existing plant operations. The existing conditions and operations for the Erwin facility were evaluated by NRC for environmental impacts in a 1999 EA related to the renewal of the NFS license (Reference 1) and a 2002 EA related to the first amendment for the Blended Low-Enriched Uranium (BLEU) Project (Reference 2). The 2002 EA assessed the impact of the entire BLEU Project using information available at that time. A 2003 EA (Reference 3) and a 2004 EA (Reference 4), related to additional BLEU Project amendments, confirmed the FONSI issued in 2002.

Proposed Action

The proposed action is to grant a one-time exemption from the 10 CFR 74.59(d)(1) requirement to measure the uranium element and isotopic content of certain 2S type UF6 cylinders. The exemption would authorize NFS to record an estimated value instead of drawing samples from each cylinder and conducting measurements. No change to processing, packaging, or storage operations is requested; and no construction of new facilities is requested. Granting the exemption would require the revision of a safety condition and the addition of a safeguards condition in License SNM-124 if the exemption is granted.

Need for Proposed Action

The proposed action is being requested because it is difficult to sample the small quantity of material remaining in each cylinder and perform destructive or nondestructive analyses to measure the uranium element and isotope content of the material. It requires expensive equipment, which NFS does not possess, to sample and analyze UF6 gas.

Alternatives

The alternatives available to NRC are:

1. Approve the requested action as described, or

2. No action (i.e., deny the request).

Affected Environment

The affected environment for the proposed action and the no action alternative is the NFS site. The NFS facility is located in Unicoi County, Tennessee, about 32 kilometers (20 miles) southwest of Johnson City, Tennessee. The facility is within the Erwin city limits. The affected environment is identical to the affected environment assessed in the 2002 EA related to the first amendment for the BLEU Project (Reference 2). A full description of the site and its characteristics are given in the 2002 EA. Additional information can be found in the 1999 EA related to the renewal of the NFS license (Reference 1). The site occupies about 28 hectares (70 acres). The site is bounded to the northwest by the CSX Corporation (CSX) railroad property and the Nolichucky River; and by Martin Creek to the northeast. The plant elevation is about 9 meters (30 feet) above the nearest point on the Nolichucky River.

The area adjacent to the site consists primarily of residential, industrial, and commercial areas; with a limited amount of farming to the northwest. Privately owned residences are located to the east and south of the facility. Tract size is relatively large, leading to a low housing density in the areas adjacent to the facility. The CSX railroad right-of-way is parallel to the western boundary of the site. Industrial development is located adjacent to the railroad on the opposite side of the right-of-way. The site is bounded by Martin Creek to the north with privately owned, vacant property and low-density residences.

Environmental Impacts of Proposed Action and Alternatives

1. Occupational and Public Health

Proposed Action

The occupational and public health impacts from the proposed action are essentially the same as those considered in the previous environmental assessments. If the exemption is granted, no samples of the radioactive and chemically hazardous material will be removed from the cylinders and measured in a laboratory, which will reduce the risk of exposures and releases from measurement operations and reduce the risk of accidents. However, the reductions would be so small that the differences would be negligible.

No Action

Denying the exemption request would not result in a significant difference in the occupational and public health impacts when compared to the proposed action. If this exemption request is denied, the licensee may make arrangements to have the material in each cylinder sampled and measured, which will increase the risk of exposures and releases from measurement operations and increase the risk of accidents. However, the facility will continue to implement NRC-approved procedures for handling radioactive and chemically hazardous materials. Thus, the impacts under the “no action” alternative will remain within acceptable regulatory limits. In addition, the quantity of material involved is relatively small. The increased risk would be so small that the difference would be negligible.

2. Effluent Releases, Environmental Monitoring, Water Resources, Geology, Soils, Air Quality, Demography, Biota, Cultural and Historic Resources

Proposed Action

The NRC staff finds that approval of the proposed action will not impact effluent releases, environmental monitoring, water resources, geology, soils, air quality, demography, biota, or cultural or historic resources at or near the NFS site. If the exemption is granted, no samples of the radioactive and chemically hazardous material will be removed from the cylinders and measured in a laboratory, which will reduce the risk of exposures and releases from measurement operations and reduce the risk of accidents. However, the reductions would be so small that the differences would be negligible.

No Action

The NRC staff finds that denial of the proposed action will not impact effluent releases, environmental monitoring, water resources, geology, soils, air quality, demography, biota, or cultural or historic resources at or near the NFS site. If this exemption request is denied, the licensee may make arrangements to have the material in each cylinder sampled and measured, which will increase the risk of exposures and releases from measurement operations and increase the risk of accidents. However, the facility will continue to implement NRC-approved procedures for handling radioactive and chemically hazardous materials. Thus, the impacts under the “no action” alternative will remain within acceptable regulatory limits. In addition, the quantity of material involved is relatively small. The increased risk would be so small that the difference would be negligible.

Conclusion

Based on its review, the NRC concluded that the environmental impacts associated with the proposed action are not significant and, therefore, do not warrant the preparation of an EIS. The NRC determined that the proposed action is the appropriate alternative for selection. Based on an evaluation of the environmental impacts of the proposed action, the NRC determined that the proper action is to issue a FONSI.

Agencies and Persons Contacted

On October 19, 2010, the NRC staff contacted the Division of Radiological Health in the Tennessee Department of Environment and Conservation (TDEC) concerning this EA. On November 15, 2010, TDEC responded that it had reviewed the draft EA and had no comments (Reference 6).

The NRC staff determined that the proposed action will not affect listed species or critical habitat. Therefore, no consultation is required under section 7 of the Endangered Species Act. Likewise, the NRC staff determined that the proposed action is not the type of activity that has the potential to cause effects on historic properties. Therefore, no consultation is required under section 106 of the National Historic Preservation Act.

III. Finding of No Significant Impact

Pursuant to 10 CFR part 51, the NRC staff considered the environmental consequences of taking the proposed action. On the basis of this EA, the NRC has concluded that there are no significant environmental impacts associated with the proposed action, and that preparation of an EIS is not warranted.

IV. Further Information

The documents referenced below in this Notice may be made available to interested parties, pursuant to a protective order and subject to applicable security requirements upon showing that the party has an interest that may be affected by the proposed action.

References

1. U.S. Nuclear Regulatory Commission, “Environmental Assessment for Renewal of Special Nuclear Material License No. SNM-124,” January 1999, ADAMS Accession No. ML050600258.

2. U.S. Nuclear Regulatory Commission, “Environmental Assessment for Proposed License Amendments to Special Nuclear Material License No. SNM-124 Regarding Downblending and Oxide Conversion of Surplus High-Enriched Uranium,” June 2002, ADAMS Accession No. ML050540096.

3. U.S. Nuclear Regulatory Commission, “Environmental Assessment and Finding of No Significant Impact for the BLEU Preparation Facility,” September 2003, ADAMS Accession No. ML032390428.

4. U.S. Nuclear Regulatory Commission, “Environmental Assessment and Finding of No Significant Impact for the Oxide Conversion Building and the Effluent Processing Building at the BLEU Complex,” June 2004, ADAMS Accession No. ML041470176.

5. Nuclear Fuel Services, “2S UF6 Cylinder Heel Request,” December 31, 2009, ADAMS Accession No. ML100341335.

6. D. Shults, Director, Tennessee Division of Radiological Health, e-mail to K. Ramsey, U.S. Nuclear Regulatory Commission, “State Consultation on EA for NFS Exemption,” November 15, 2010, ADAMS Accession No. ML103200288.

Dated at Rockville, Maryland, this 1st day of December 2010.
For the Nuclear Regulatory Commission.
Merritt Baker,
Acting Chief, Fuel Cycle Facilities Branch, Division of Fuel Cycle Safety and Safeguards, Office of Nuclear Material Safety and Safeguards.

[FR Doc. 2010-30860 Filed 12-7-10; 8:45 am]

BILLING CODE 7590-01-P